DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate and notice of availability of final evaluation findings.

SUMMARY: The NOAA Office of Ocean and Coastal Resource Management (OCRM) announces its intent to evaluate the performance of the Texas Coastal Management Program; the North Carolina National Estuarine Research Reserve; the Grand Bay National Estuarine Research Reserve, Mississippi; and the Guana/Tolomato/Matanzas National Estuarine Research Reserve, Florida.

The Coastal Zone Management Program evaluation will be conducted pursuant to section 312 of the Coastal Zone Management Act of 1972 (CZMA), as amended, and regulations at 15 CFR part 923, subpart L. The National Estuarine Research Reserve evaluations will be conducted pursuant to sections 312 and 315 of the CZMA and regulations at 15 CFR part 921, subpart E and part 923, subpart L.

The CZMA requires continuing review of the performance of states with respect to coastal program implementation. Evaluation of Coastal Zone Management Programs and National Estuarine Research Reserves requires findings concerning the extent to which a state has met the national objectives, adhered to its Coastal Management Program document or Reserve final management plan approved by the Secretary of Commerce, and adhered to the terms of financial assistance awards funded under the CZMA.

The evaluations will include a site visit, consideration of public comments, and consultations with interested Federal, state and local agencies and members of the public. Public meetings will be held as part of the site visits.

Notice is hereby given of the dates of the site visits for the listed evaluations, and the dates, local times, and locations of the public meetings during the site visits.

The Guana/Tolomato/Matanzas National Estuarine Research Reserve, Florida, evaluation site visit will be held February 9-12, 2004. One public meeting will be held during the week. The public meeting will be on Monday, February 9, 2004, at 6 p.m., at the Reserve's offices at 9741 Ocean Shore Boulevard, Marineland, Florida.

The Texas Coastal Management Program evaluation site visit will be held March 22-26, 2004. One public meeting will be held during the week. The public meeting will be on Thursday, March, 25, 2004, at 1 p.m., at the Carlos F. Truan Natural Resources Center, Conference Room 1003, Texas A&M University-Corpus Christi, 6300 Ocean Drive, Corpus Christi, Texas.

The Grand Bay National Estuarine Research Reserve, Mississippi, evaluation site visit will be held March 24-26, 2004. One public meeting will be held during the week. The public meeting will be on Wednesday, March 24, 2004, at 6:30 p.m., at the East Jackson County/Orange Grove Community Center, 9313 Old Stage Road, Moss Point, Mississippi.

The North Carolina National Estuarine Research Reserve evaluation site visit will be held March 29-April 2, 2004. Three public meetings will be held during the week. The first public meeting will be on Tuesday, March 30, 2004, at 7 p.m., at the Currituck County Satellite Office, 1123 Ocean Trail, Corolla, North Carolina. The second public meeting will be on Wednesday, March 31, 2004, at 7 p.m., at the Duke University Marine Laboratory Auditorium, 135 Duke Marine Lab Road, Beaufort, North Carolina. The third public meeting will be held on Thursday, April 1, 2004, at 7 p.m., at the King Hall Auditorium, University of North Carolina at Wilmington, 601 South College Road, Wilmington, North Carolina.

Copies of states' most recent performance reports, as well as OCRM's notifications and supplemental request letters to the states, are available upon request from OCRM. Written comments from interested parties regarding these Programs are encouraged and will be accepted for each Program until 15 days after the last public meeting held for that Program. Please direct written comments to: Ralph Cantral, Chief, National Policy and Evaluation Division, Office of Ocean and Coastal Resource Management, NOS/NOAA, 1305 East-West Highway, N/ORM7, 10th Floor, Silver Spring, Maryland 20910. When the evaluations are completed, OCRM will place a notice in the Federal Register announcing the availability of the Final Evaluation Findings.

Notice is hereby given of the availability of the final evaluation findings for the Connecticut and Rhode Island Coastal Management Programs. Sections 312 and 315 of the Coastal Zone Management Act of 1972 (CZMA), as amended, require a continuing review of the performance of coastal states with respect to approval of coastal management programs, and the operation and management of NERRs.

The states of Connecticut and Rhode Island were found to be implementing and enforcing their federally approved coastal management programs, addressing the national coastal management objectives identified in CZMA Section 303(2)(A)-(K), and adhering to the programmatic terms of their financial assistance awards. Copies of these final evaluation findings may be obtained upon written request from: Ralph Cantral, Chief, National Policy and Evaluation Division, Office of Ocean and Coastal Resource Management, NOS/NOAA, 1305 East-West Highway, N/ORM7, 10th Floor, Silver Spring, Maryland 20910.

FOR FURTHER INFORMATION CONTACT: Ralph Cantral, Chief, National Policy and Evaluation Division, Office of Ocean and Coastal Resource Management, NOS/NOAA, 1305 East-West Highway, N/ORM7, 10th Floor, Silver Spring, Maryland 20910, (301) 713-3155, Extension 118.

(Federal Domestic Assistance Catalog 11.419; Coastal Zone Management Program Administration)
Dated: December 17, 2003.
Richard W. Spinrad,
Assistant Administrator for Ocean Services and Coastal Zone Management.

[FR Doc. 03-31662 Filed 12-23-03; 8:45 am]

BILLING CODE 3510-08-P